DEPARTMENT OF AGRICULTURE

Agricultural Marketing Service

[Document No. AMS-TM-19-0067]

Transportation and Marketing Program; Notice of Extension and Request for Revision of a Currently Approved Information Collection

AGENCY: Agricultural Marketing Service, USDA.

ACTION: Notice and request for comments.

SUMMARY: In accordance with the Paperwork Reduction Act of 1995, this notice announces the Agricultural Marketing Service's (AMS) intention to seek renewal and extension of its current approval from the Office of Management and Budget to collect information for eight competitive and one non-competitive AMS Grant Programs administered by its Grants Division. Three of these programs were created pursuant to the Agriculture Improvement Act of 2018 (Farm Bill), thereby increasing the number of respondents who are potentially subject to this information collection. However, the reporting requirements should remain the same across all of the grant programs.

DATES: Comments on this notice must be received by September 30, 2019 to be assured of consideration.

ADDRESSES: Interested persons are invited to submit comments concerning this information collection notice. Comments should be submitted online at www.regulations.gov or sent to John Miklozek, Grants Division Director, AMS Transportation and Marketing Program, 1400 Independence Avenue SW, Stop 0269, Washington, DC 20250-0264, or by facsimile to (202) 690-0338. All comments should reference the Doc. No. AMS-TM-19-0067, the date, and the page number of this issue of the Federal Register. All comments received, including any personal information provided, will be posted online, without change, at www.regulations.gov and will be made available for public inspection at the above physical address during regular business hours.

FOR FURTHER INFORMATION CONTACT: John Miklozek at the above physical address, or by email at John.Miklozek@usda.gov.

SUPPLEMENTARY INFORMATION:

Title: AMS Grant Programs.

OMB Number: 0581-0240.

Expiration Date of Approval: 11/30/2019.

Type of Request: Extension and revision of a currently approved information collection.

Abstract: AMS Grant Programs are authorized pursuant to the Agricultural Marketing Act of 1946 (AMA) (7 U.S.C. 1621 et seq.) and are implemented through the Uniform Administrative Requirements, Cost Principles, and Audit Requirements for Federal Awards (Super Circular) (2 CFR 200). In addition to renewal, the AMS Grants Division requests to extend its current approval to collect information for four additional grant programs. The four grant programs being added to this collection are the Dairy Business Innovation (DBI) Initiatives, Regional Food System Partnerships (RFSP), the Sheep Production and Marketing Grant Program (SPMGP), and the Acer Access and Development Program (Acer).

The Farm Bill authorizes the appropriation of up to $20 million dollars per fiscal year for the DBI Initiatives grant program. This program will establish three or more regionally located dairy product and business innovation initiatives for the purposes of diversifying dairy product markets to reduce risk and develop higher-value uses for dairy products; promoting business development that diversifies farmer income through processing and marketing innovation; and encouraging the use of regional milk production. The RFSP grant program supports partnerships to plan and develop a local or regional food system. The SPMGP strengthens and enhances the production and marketing of sheep and sheep products in the United States, including the improvement of business infrastructure, resource development and the development of innovative approaches to solve long-term needs. Acer supports efforts to promote the domestic maple syrup industry through activities associated with the promotion and expansion of, and research and education about, maple-sugaring activities on the land.

AMS solicits subject matter experts to act as peer reviewers for competitive grant programs under its purview. Interested individuals apply and those selected objectively review and evaluate grant applications against the criteria outlined in the published announcement.

Because AMS Grant Programs are voluntary, respondents request or apply for the specific competitive or non-competitive grant program(s) they select, and in doing so, they provide information. AMS is the primary user of the information. The information collected is needed to certify that grant participants are complying with applicable program regulations, and the data collected are the minimum information necessary to effectively carry out the requirements of the program. The information collection requirements in this request are essential to carry out the intent of the AMA, to provide the respondents the type of service they request, and to administer these programs. The burden of the AMS Grant Programs is as follows:

Combined Burden for AMS Grant Programs

Estimate of Burden: 2.58 hours.

Respondents: Peer reviewers, grant applicants, grant recipients.

Estimated Number of Respondents: 10,641.

Estimated Total Annual Responses including Recordkeeping: 17,257.

Estimated Number of Responses per Respondent: 29.

Estimated Total Annual Burden on Respondents and Recordkeepers: 44,607.18 hours.

Dairy Business Innovation (DBI) Initiatives

Estimate of Burden: 2.51 hours.

Respondents: Peer reviewers, grant applicants, grant recipients.

Estimated Number of Respondents and Recordkeepers: 121.

Estimated Total Annual Responses including Recordkeeping: 219.

Estimated Number of Responses per Respondent including Recordkeepers: 31.

Estimated Total Annual Burden on Respondents and Recordkeepers: 549.41 hours.

Regional Food System Partnerships (RFSP)

Estimate of Burden: 2.32 hours.

Respondents: Peer reviewers, grant applicants, grant recipients.

Estimated Number of Respondents and Recordkeepers: 435.

Estimated Total Annual Responses including Recordkeeping: 768.

Estimated Number of Responses per Respondent including Recordkeepers: 45.

Estimated Total Annual Burden on Respondents and Recordkeepers: 1783.75 hours.

Sheep Production and Marketing Grant Program (SPMGP)

Estimate of Burden: 1.96 hours.

Respondents: Peer reviewers, grant applicants, grant recipients.

Estimated Number of Respondents and Recordkeepers: 15.

Estimated Total Annual Responses including Recordkeeping: 29.

Estimated Number of Responses per Respondent including Recordkeepers: 29.

Estimated Total Annual Burden on Respondents and Recordkeepers: 56.83 hours.

Acer Access and Development Program (Acer)

Estimate of Burden: 2.05 hours.

Respondents: Peer reviewers, grant applicants, grant recipients.

Estimated Number of Respondents and Recordkeepers: 172.

Estimated Total Annual Responses including Recordkeeping: 304.

Estimated Number of Responses per Respondent including Recordkeepers: 38.

Estimated Total Annual Burden on Respondents and Recordkeepers: 623.58 hours.

Comments are invited on: (1) Whether the new collection of information is necessary for the proper performance of the functions of the agency, including whether the information will have practical utility; (2) the accuracy of the agency's estimate of the burden of the new collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: July 26, 2019.
Erin Morris,
Associate Administrator, Agricultural Marketing Service.

[FR Doc. 2019-16273 Filed 7-30-19; 8:45 am]

BILLING CODE 3410-02-P